FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 004236F.

Name: Torrance Van & Storage Company dba S&M Moving Systems.

Address: 12128 Burke Street, Santa Fe Springs, CA 90670.

Date Revoked: July 18, 2014.

Reason: Failed to maintain a valid bond.

License No.: 016293N.

Name: Japan Express America Inc.

Address: 2203 E. Carson Street, Suite A-2, Long Beach, CA 90810.

Date Revoked: June 22, 2014.

Reason: Failed to maintain a valid bond.

License No.: 016836N.

Name: Xing Ya Shipping LLC.

Address: 27413 Tourney Road, Suite 200, Valencia, CA 91355.

Date Revoked: July 18, 2014.

Reason: Failed to maintain a valid bond.

License No.: 017466N.

Name: Compass Shipping, Inc.

Address: 730 Chester Street, Brooklyn, NY 11236.

Date Revoked: July 11, 2014.

Reason: Failed to maintain a valid bond.

License No.: 018789F.

Name: Cargo Agents, Inc.

Address: 143-30 38th Avenue, Suite 1H, Flushing, NY 11354-5742.

Date Revoked: July 5, 2014.

Reason: Failed to maintain a valid bond.

License No.: 019426N.

Name: TP Express, Inc.

Address: 1370 E. Higgins Road, Elk Grove Village, IL 60007.

Date Surrendered: July 18, 2014.

Reason: Voluntary surrender of license.

License No.: 019792N.

Name: International Specialists Worldwide Moving, Inc.

Address: 5001 South Claiborne, Suite A, New Orleans, LA 70125.

Date Revoked: July 17, 2014.

Reason: Failed to maintain a valid bond.

License No.: 021553N.

Name: Eagle Transport Services Inc.

Address: 181 South Franklin Avenue, Suite 309, Valley Stream, NY 11581.

Date Revoked: July 16, 2014.

Reason: Failed to maintain a valid bond.

License No.: 021239NF.

Name: Spi International Transportation (U.S.A.) Corp. dba Silver Pacific Global Logistics.

Address: 5205 South 2nd Avenue, Suite A, Everett, WA 98203.

Date Revoked: July 6, 2014 (NVOCC) and July 19, 2014 (OFF).

Reason: Failed to maintain valid bonds.

License No.: 022167N.

Name: American & Caribbean Shipping Inc.

Address: 13 East Tremont Avenue, Bronx, NY 10453.

Date Revoked: July 3, 2014.

Reason: Failed to maintain a valid bond.

License No.: 022729NF.

Name: Caribbean Warehouse & Logistics, Inc.

Address: Royal Industrial Park, Bldg. B, Unit 4, Road 869 KM 1.5, Catano, PR 00918.

Date Revoked: June 11, 2014.

Reason: Failed to maintain valid bonds.

License No.: 023771N.

Name: Boacon Synergy Inc.

Address: 7933 Mill Creek Circle, West Chester, OH 45069.

Date Revoked: July 6, 2013.

Reason: Failed to maintain a valid bond.

Sandra L. Kusumoto,
Director, Bureau of Certification and Licensing.

[FR Doc. 2014-18566 Filed 8-5-14; 8:45 am]

BILLING CODE 6730-01-P